DEPARTMENT OF LABOR

Office of the Secretary

Submission for OMB Review; Comment Request

December 17, 2001.

The Department of Labor (DOL) has submitted the following public information collection requests (ICRs) to the Office of Management and Budget (OMB) for review and approval in accordance with the Paperwork Reduction Act of 1995 (Pub. L. 104-13, 44 U.S.C. Chapter 35). A copy of this ICR, with applicable supporting documentation, may be obtained by calling the Department of Labor. To obtain documentation contact Darrin King on (202) 693-4129 or E-mail: King-Darrin@dol.gov.

Comments should be sent to Office of Information and Regulatory Affairs, Attn: OMB Desk Officer for ETA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, clarity of the information to be collected; and

• Minimize the burden of the collection of information on those who are to respond, including through the use of appropriate automated, electronic, mechanical, or other technological collection techniques or other forms of information technology, e.g., permitting electronic submission of responses.

Type of Review: New collection.

Agency: Employment and Training Administration (ETA).

Title: Workforce Flexibility (Work-Flex) Program.

OMB Number: 1205-ONEW.

Affected Public: State, Local, or Tribal Government.

Frequency: Annually and Quarterly.

Type of Response: Reporting.

Number of Respondents: 5.

Number of Annual Responses: 25.

Estimated Time Per Response: 160 hours to prepare and submit a Work-Flex Plan and 8 hours to prepare and submit quarterly reports.

Total Burden Hours: 960.

Total Annualized Capital/Startup Costs: $0.

Total Annual Costs (operating/maintaining systems or purchasing services): $0.

Description: In accordance with requirements specified in section 192 of the Workforce Investment Act (the Act) and 20 CFR 661.420 et seq, States may apply for a 5-year Work-Flex waiver authority to implement reforms to their workforce investment systems in exchange for program improvement. The Act provides that the Secretary may only grant Work-Flex waiver authority in consideration of a Work-Flex Plan submitted by a State. States granted Work-Flex authority are also required to submit quarterly reports that summarize waiver activities in the State.

Ira L. Mills,
Departmental Clearance Officer.

[FR Doc. 01-31817 Filed 12-26-01; 8:45 am]

BILLING CODE 4510-30-M